DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of rules scheduled for review or development between fall 2017 and fall 2018. The Regulatory Flexibility Act and Executive Order 12866 require publication of the agenda.

ADDRESSES: Unless otherwise indicated, all agency contacts are located at the Department of the Interior, 1849 C Street NW, Washington, DC 20240.

FOR FURTHER INFORMATION CONTACT: You should direct all comments and inquiries about these rules to the appropriate agency contact. You should direct general comments relating to the agenda to the Office of Executive Secretariat and Regulatory Affairs, Department of the Interior, at the address above or at 202-208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

Mark Lawyer,
Federal Register Liaison Officer.

Bureau of Safety and Environmental Enforcement—Proposed Rule Stage
Sequence No. | Title | Regulation Identifier No.
286 | Revisions to the Blowout Preventer Systems and Well Control Rule | 1014-AA39
287 | Revisions to the Requirements for Exploratory Drilling on the Arctic Outer Continental Shelf | 1014-AA40

United States Fish and Wildlife Service—Proposed Rule Stage
Sequence No. | Title | Regulation Identifier No.
288 | Migratory Bird Hunting; 2018-2019 Migratory Game Bird Hunting Regulations | 1018-BB73

Office of Surface Mining Reclamation and Enforcement—Completed Actions
Sequence No. | Title | Regulation Identifier No.
289 | Stream Protection Rule | 1029-AC63

DEPARTMENT OF THE INTERIOR (DOI)

Bureau of Safety and Environmental Enforcement (BSEE)

Proposed Rule Stage

286. • Revisions to the Blowout Preventer Systems and Well Control Rule

E.O. 13771 Designation: Deregulatory.

Legal Authority: 43 U.S.C. 1331 to 1356a

Abstract: This rulemaking would revise specific provisions of the final well control rule, 81 FR 25888 (April 29, 2016), for drilling, workover, completion and decommissioning activities based on stakeholder input from the final rule implementation and in accordance with section 4 of Secretary's Order 3350, America-First Offshore Energy Strategy, Executive Order (E.O.) 13783, Promoting Energy Independence and Economic Growth, and section 7 of E.O. 13795, Implementing an America-First Offshore Energy Strategy.

Timetable:

Action | Date | FR Cite
NPRM | 10/00/18 |

Regulatory Flexibility Analysis Required: Yes.

Agency Contact: Lakeisha Harrison, Chief, Regulations and Standards Branch, Department of the Interior, Bureau of Safety and Environmental Enforcement, 45600 Woodland Road, Sterling, VA 20166, Phone: 703 787-1552, Fax: 703 787-1555, Email: lakeisha.harrison@bsee.gov.

RIN: 1014-AA39

287. • Revisions to the Requirements for Exploratory Drilling on the Arctic Outer Continental Shelf

E.O. 13771 Designation: Deregulatory.

Legal Authority: 43 U.S.C. 1331 to 1356a

Abstract: This proposed rule would revise specific provisions of the final Arctic Rule 81 FR 46478 (July 15, 2016) that established a regulatory framework for exploratory drilling and related operations on the Outer Continental Shelf (OCS) of Alaska, focusing solely on the OCS within the Beaufort Sea and Chukchi Sea Planning Areas.

Timetable:

Action | Date | FR Cite
NPRM | 10/00/18 |

Regulatory Flexibility Analysis Required: Yes.

Agency Contact: Bryce Barlan, Department of the Interior, Bureau of Safety and Environmental Enforcement, 45600 Woodland Road, Sterling, VA 20166, Phone: 703 717-1126, Email: bryce.barlan@bsee.gov.

RIN: 1014-AA40

DEPARTMENT OF THE INTERIOR (DOI)

United States Fish and Wildlife Service (FWS)

Proposed Rule Stage

288. Migratory Bird Hunting; 2018-2019 Migratory Game Bird Hunting Regulations

E.O. 13771 Designation: Fully or Partially Exempt.

Legal Authority: 16 U.S.C. 703 to 711; 16 U.S.C. 742a-j

Abstract: We propose to establish annual hunting regulations for certain migratory game birds for the 2018-2019 hunting season. We annually prescribe outside limits (frameworks), within which States may select hunting seasons. This proposed rule provides the regulatory schedule, describes the proposed regulatory alternatives for the 2018-2019 duck hunting seasons, requests proposals from Indian tribes that wish to establish special migratory game bird hunting regulations on Federal Indian reservations and ceded lands, and requests proposals for the 2018 spring and summer migratory bird subsistence season in Alaska. Migratory game bird hunting seasons provide opportunities for recreation and sustenance; aid Federal, State, and tribal governments in the management of migratory game birds; and permit harvests at levels compatible with migratory game bird population status and habitat conditions.

Timetable:

Action | Date | FR Cite
Notice of Public Meeting | 06/15/17 | 82 FR 27521
Public Meeting | 06/21/17 | 82 FR 27521
NPRM | 08/03/17 | 82 FR 36308
NPRM Comment Period End | 09/05/17 |
NPRM Supplemental | 10/03/17 | 82 FR 46011
NPRM Supplemental Comment Period End | 01/15/18 |
NPRM; Proposed Frameworks | 12/00/17 |
NPRM; Proposed Tribal Regulations | 01/00/18 |
Final Rule; Final Frameworks | 03/00/18 |
Final Rule; Final Tribal Regulations | 05/00/18 |
Final Rule; Final Season Selections | 05/00/18 |

Regulatory Flexibility Analysis Required: Yes.

Agency Contact: Ronald Kokel, Wildlife Biologist, Division of Migratory Bird Management, Department of the Interior, United States Fish and Wildlife Service, 5275 Leesburg Pike, MS: MB, Falls Church, VA 22041-3808, Phone: 703 358-1714, Email: ronald_kokel@fws.gov.

RIN: 1018-BB73

DEPARTMENT OF THE INTERIOR (DOI)

Office of Surface Mining Reclamation and Enforcement (OSMRE)

Completed Actions

289. Stream Protection Rule

E.O. 13771 Designation: Deregulatory.

Legal Authority: 30 U.S.C. 1201 et seq.

Abstract: The final rule published December 20, 2016 (81 FR 93066) and became effective January 19, 2017. The final rule was nullified by a joint resolution of disapproval under the Congressional Review Act, signed by the President on February 16, 2017 (Pub. L. 115-5). This action conforms to Public Law 115-5 by changing the Code of Federal Regulations to reflect the regulations as they existed before the effective date of the final rule that was nullified under the Congressional Review Act.

Timetable:

Action | Date | FR Cite
ANPRM | 11/30/09 | 74 FR 62664
ANPRM Comment Period End | 12/30/09 |
NPRM | 07/27/15 | 80 FR 44436
NPRM Comment Period Extended | 09/10/15 | 80 FR 54590
NPRM Comment Period End | 09/25/15 |
NPRM Comment Period Extended End | 10/26/15 |
Final Action | 12/20/16 | 81 FR 93066
Final Action Effective | 01/19/17 |
Final Rule; CRA Revocation | 11/17/17 | 82 FR 54924

Regulatory Flexibility Analysis Required: Yes.

Agency Contact: Dennis Rice, Regulatory Analyst, Department of the Interior, Office of Surface Mining Reclamation and Enforcement, 1951 Constitution Avenue NW, Washington, DC 20240, Phone: 202 208-2829, Email: drice@osmre.gov.

RIN: 1029-AC63

[FR Doc. 2017-28216 Filed 1-11-18; 8:45 am]

BILLING CODE 4334-63-P